ENVIRONMENTAL PROTECTION AGENCY

[FRL-9748-4]

Regulation of Fuel and Fuel Additives: Modification to Octamix Waiver (TOLAD MFA-10A)

AGENCY: Environmental Protection Agency (EPA).

ACTION: Correction notice.

SUMMARY: The Environmental Protection Agency reconsidered a portion of a fuel waiver granted under section 211(f) of the Clean Air Act to the Texas Methanol Corporation (Texas Methanol) on June 14, 2012, by issuing a notice to approve the use of an alternative corrosion inhibitor, TOLAD MFA-10A, in Texas Methanol's gasoline-alcohol fuel, OCTAMIX. This correction notice explains that TOLAD MFA-10A is to be blended into the final fuel at 42.7 milligrams per liter (mg/l) rather than at 25 mg/l, as indicated in the June 14 notice.

ADDRESSES: EPA has established a docket for this action under Docket ID Number EPA-HQ-OAR-2011-0894. All documents and public comments in the docket are listed on the http://www.regulations.gov Web site. Publically available docket materials are available either electronically through http://www.regulations.gov or in hard copy at the Air Docket, EPA Headquarters Library, Mail Code: 2822T, EPA West Building, 1301 Constitution Ave. NW., Washington, DC. The Public Reading Room is open from 8:30 a.m. to 4:30 p.m., Monday through Friday, excluding holidays. The telephone number for the Public Reading Room is (202) 566-1742, and the facsimile number for the Air Docket is (202) 566-9744.

FOR FURTHER INFORMATION CONTACT: For information regarding this notice contact, Joseph R. Sopata, U.S. Environmental Protection Agency, Office of Air and Radiation, Office of Transportation and Air Quality, (202) 343-9034, fax number, (202) 343-2800, email address: sopata.joe@epa.gov.

SUPPLEMENTARY INFORMATION:

I. Background

On October 14, 2011, Baker Hughes requested that EPA allow the use of its alternative corrosion inhibitor, TOLAD™ MFA-10A, at a concentration of 42 mg/l, in the OCTAMIX gasoline-alcohol fuel blend which otherwise would not be allowed under the OCTAMIX waiver.¹ TOLAD™ MFA-10A is a fuel additive formulation consisting of a corrosion inhibitor. On January 20, 2012, EPA published a notice in the Federal Register (77 FR 2979) announcing receipt of Baker Hughes's request and inviting comment on it. The comment period closed on February 21, 2012. On June 14, 2012, EPA approved the use of TOLAD MFA-10A as an alternative corrosion inhibitor in Texas Methanol's gasoline-alcohol fuel, OCTAMIX.²

¹ EPA-HQ-OAR-2011-0894-0001.

² 77 FR 35677.

In that June 14, 2012 decision notice, EPA mistakenly listed the approved concentration of TOLAD™ MFA-10A as 25 mg/l instead of the requested 42 mg/l. Today's notice corrects that mistake and explains why the previous approval is still appropriate when using the concentration of 42 mg/l as originally requested by Baker Hughes.

II. Analysis

The Agency's decision on the overall efficacy of TOLAD MFA-10A as a corrosion inhibitor for use under the OCTAMIX waiver was largely based on Baker Hughes' original request for a concentration of 42.7 mg/l. However, in reviewing our decision, we discovered that our analysis regarding the emission impacts of TOLAD MFA-10A was inadvertently based on the minimum treat rate of 25 mg/l, whereas Baker Hughes requested and provided data for TOLAD MFA-10A at a concentration of 42.7 mg/l.³ This correction notice therefore explains how our decision to approve TOLAD MFA-10A as an alternative corrosion inhibitor under the OCTAMIX waiver is still appropriate when using a concentration of 42.7 mg/l.

³ NACE Standard TM-01-72.

With regards to the question of the emission impacts of using TOLAD MFA-10A, its treat rate of 42.7 mg/l is the same as the treat rate of TOLAD MFA-10, the original corrosion inhibitor approved under the OCTAMIX waiver. The chemical composition and the treat rate of TOLAD MFA-10A at 42.7 mg/l, which is less than 0.01 mass percent by weight, is such that it qualifies as a fuel additive falling under the baseline gasoline fuel category ⁴ under our fuel and fuel additive registration regulations. In addition, the chemical composition and treat rate of TOLAD MFA-10A at 42.7 mg/l is such that it meets our substantially similar definition.⁵ Given that TOLAD MFA-10A at a concentration of 42.7 mg/l is a fuel additive that is both substantially similar to fuel additives used in our certification program and a fuel additive falling under our baseline gasoline fuel category, one would not expect significant emission changes from the use of TOLAD MFA-10A compared to other fuel additives that fall under the baseline gasoline fuel category, which also includes TOLAD MFA-10, DMA-67 and TXCeed. Therefore, as long as the other conditions of the OCTAMIX waiver are met, which include applicable volatility specifications, gasoline phase separation specifications, and alcohol purity conditions, the Agency believes that the use of TOLAD MFA-10A in place of TOLAD MFA-10 will allow engines and vehicles to remain compliant with their emissions standards when using fuels made as approved under the original conditions granted for the OCTAMIX waiver.

⁴ See 40 CFR 79.56(e)(3)(i).

⁵ For our most recent substantially similar gasoline interpretive rule, please see: http://www.epa.gov/fedrgst/EPA-AIR/2008/April/Day-25/a8944.pdf.

The Agency therefore modifies condition (3) of the OCTAMIX waiver to read as follows:

(3) Any one of the following four corrosion inhibitors must be included:

(a) Petrolite's corrosion inhibitor formulation, TOLAD MFA-10, blended in the final fuel at 42.7 milligrams/liter (mg/l); or

(b) DuPont's corrosion inhibitor formulation, DMA-67, blended in the final fuel at 31.4 mg/l; or

(c) Spirit of 21st Century LLC's corrosion inhibitor formulation, TXCeed, blended in the final fuel at 3.9 ml/gal (987.6 mg/l); or

(d) Baker Hughes's corrosion inhibitor formulation, TOLAD MFA-10A, blended in the final fuel at 42.7 mg/l.

III. Do any of the statutory and executive order reviews apply to this action?

This final decision corrects an error in our emissions impact analysis for TOLAD MFA-10A at 42.7 mg/l as well as corrects an error in the required treat rate of TOLAD MFA-10A at 42.7 mg/l for use with the OCTAMIX waiver. This final decision does not otherwise change the requirements in the June 14, 2012 decision notice. As a correction, this action is not subject to the statutory and Executive Order review requirements. For information about the statutory and Executive Order review requirements as they related to the final decision, see the Unit IV, in the Federal Register of June 14, 2012.⁶

⁶ 77 FR 35679.

Dated: October 25, 2012.
Lisa P. Jackson,
Administrator.

[FR Doc. 2012-26753 Filed 10-31-12; 8:45 am]

BILLING CODE 6560-50-P